DEPARTMENT OF JUSTICE

Notice of Lodging of Proposed Consent Decree Under the Comprehensive Environmental Response, Compensation, and Liability Act of 1980, as Amended (“CERCLA”)

On March 25, 2022, the Department of Justice lodged a proposed consent decree with the United States District Court for the Eastern District of Michigan in the lawsuit entitled United States v. Acemco Incorporated, et al., Civil Action No. 22-10640.

The United States filed a complaint under CERCLA for recovery of its costs spent at the Dearborn Refining Superfund Site in Dearborn, Michigan. The complaint alleges that the 14 named defendants sent waste containing hazardous substances to the Site. Each of the named defendants signed the proposed consent decree. Under the agreement, the named defendants would pay $880,000 for the United States' past costs at the Site and 50% of the United States' future costs, as defined in the consent decree, at the Site. In return, the United States agrees not sue the named defendants to recover past or future response costs under CERCLA Section 107.

The publication of this notice opens a period for public comment on the consent decree. Comments should be addressed to the Assistant Attorney General, Environment and Natural Resources Division, and should refer to United States v. Acemco Incorporated, et al., D.J. Ref. No. 90-7-1-704/8. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $50.25 (25 cents per page reproduction cost) payable to the United States Treasury. For a paper copy without the appendices and signature pages, the cost is $5.25.

Patricia McKenna,
Assistant Section Chief, Environmental Enforcement Section, Environment and Natural Resources Division.

[FR Doc. 2022-06781 Filed 3-30-22; 8:45 am]

BILLING CODE 4410-15-P